DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing updates to the identifying information of one individual and one entity currently included on OFAC's list of Specially Designated Nationals and Blocked Persons.

DATES: See SUPPLEMENTARY INFORMATION section for the date on which the updates become effective.

FOR FURTHER INFORMATION CONTACT:

OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On December 1, 2020, OFAC updated the SDN List for the following individual and entity, whose property and interests in property continue to be blocked under the Foreign Narcotics Kingpin Designation Act.

Individual

1. USUGA DAVID, Dairo Antonio, Colombia; DOB 15 Sep 1971; POB Colombia; nationality Colombia; citizen Colombia; Cedula No. 71980054 (Colombia) (individual) [SDNTK].

The listing for this individual now appears as follows:

1. USUGA DAVID, Dairo Antonio (a.k.a. “OTONIEL”), Colombia; DOB 15 Sep 1971; POB Necocli, Antioquia, Colombia; nationality Colombia; citizen Colombia; Gender Male; Cedula No. 71980054 (Colombia) (individual) [SDNTK].

Entity

1. LOS URABENOS (Latin: LOS URABEÑOS) (a.k.a., BANDA CRIMINAL DE URABA; a.k.a., CLAN USUGA; a.k.a., LOS AUTODEFENSAS GAITANISTAS DE COLOMBIA;), Colombia; Honduras; Panama [SDNTK].

The listing for this entity now appears as follows:

1. CLAN DEL GOLFO (a.k.a., BANDA CRIMINAL DE URABA; a.k.a. CLAN USUGA; a.k.a., GULF CLAN; a.k.a. LOS AUTODEFENSAS GAITANISTAS DE COLOMBIA; a.k.a., LOS URABENOS (Latin: LOS URABEÑOS)), Colombia; Honduras; Panama [SDNTK].

Dated: December 1, 2020.
Gregory T. Gatjanis,
Associate Director, Office of Global Targeting.

[FR Doc. 2020-26809 Filed 12-4-20; 8:45 am]

BILLING CODE 4810-AL-P